BUREAU OF CONSUMER FINANCIAL PROTECTION

[Docket No: CFPB-2014-0027]

Agency Information Collection Activities: Comment Request

AGENCY: Bureau of Consumer Financial Protection.

ACTION: Notice and request for comment.

SUMMARY: In accordance with the Paperwork Reduction Act of 1995 (PRA), the Consumer Financial Protection Bureau (Bureau) is proposing a new information collection titled, “Bridges to Financial Security: A Multi-site Demonstration Project.”

DATES: Written comments are encouraged and must be received on or before December 16, 2014 to be assured of consideration.

ADDRESSES: You may submit comments, identified by the title of the information collection, OMB Control Number (see below), and docket number (see above), by any of the following methods:

• Electronic: http://www.regulations.gov. Follow the instructions for submitting comments.

• Mail: Consumer Financial Protection Bureau (Attention: PRA Office), 1700 G Street NW., Washington, DC 20552.

• Hand Delivery/Courier: Consumer Financial Protection Bureau (Attention: PRA Office), 1275 First Street NE., Washington, DC 20002.

Please note that comments submitted after the comment period will not be accepted. In general, all comments received will become public records, including any personal information provided. Sensitive personal information, such as account numbers or social security numbers, should not be included.

FOR FURTHER INFORMATION CONTACT: Documentation prepared in support of this information collection request is available at www.regulations.gov. Requests for additional information should be directed to the Consumer Financial Protection Bureau, (Attention: PRA Office), 1700 G Street NW., Washington, DC 20552, (202) 435-9575, or email: PRA@cfpb.gov. Please do not submit comments to this mailbox.

SUPPLEMENTARY INFORMATION: Title of Collection: Bridges to Financial Security: A Multi-site Demonstration Project.

OMB Control Number: 3170-XXXX.

Type of Review: New collection (Request for a new OMB control number).

Affected Public: Individuals or households.

Estimated Number of Respondents: 15,000.

Estimated Total Annual Burden Hours: 42,386.

Abstract: The Bureau, beginning in the winter of 2015, will launch a multi-site financial education demonstration project to provide one-on-one and group financial counseling/coaching services to individuals with disabilities transitioning into the workplace or already employed. The goal is twofold: (1) To improve the financial skills of approximately 15,000 individuals across the spectrum of disability to effectively navigate the financial marketplace, resulting in improved credit, reduced debt, and increased savings; and (2) to build the capacity of diverse multi-sector systems (non-disability and disability) in up to 14 cities to unite around the common purpose of building financial security for individuals with disabilities. Monthly qualitative reports and quantitative aggregated individual data will be collected from participating sites to document the design, growth and impact of up to 14 integrated diverse delivery models serving primarily low-income populations with disabilities.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: October 9, 2014.
Ashwin Vasan,
Chief Information Officer, Bureau of Consumer Financial Protection.

[FR Doc. 2014-24738 Filed 10-16-14; 8:45 am]

BILLING CODE 4810-AM-P